DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of currently approved collection. The ICR describes the nature of the information collection and the expected burden. The Federal Register Notice with a 60-day comment period soliciting comments on the following collection of information was published on August 4, 2000, [FR 65, pages 48042-48043].

DATES: Comments must be submitted on or before November 20, 2000. A comment to OMB is most effective if OMB receives it within 30 days of publication.

FOR FURTHER INFORMATION CONTACT: Judy Street on (202) 267-9895.

SUPPLEMENTARY INFORMATION:

Federal Aviation Administration (FAA)

Title: Volcanic Activity User Needs Analysis Questionnaire.

Type of Request: Request for approval of a new collection of information.

OMB Control Number: 2120-New.

Form(s): N/A.

Affected Public: Approximately 100 members of the aviation business community and state and local government aviation community.

Abstract: Volcanic activity, specifically volcanic ash, constitutes a severe hazard to aviation. To determine the need for specific product and service improvements, the FAA requires input from airlines, airports, and pilots to understand their operational needs. The results of the survey will form the basis for investments leading to improved or new products that alert users of the national Airspace system of the volcanic ash threat.

Estimated Annual Burden Hours: 100 hours one time.

ADDRESSES: Send comments to the Office of Information and Regulatory Affairs, Office of Management and Budget, 725-17th Street, NW, Washington, DC 20503, Attention FAA Desk Officer.

Comments are invited on whether the proposed collection of information is necessary for the proper performance of the functions of the Department, including whether the information will have practical utility; the accuracy of the Department's estimate of the burden of the proposed information collections; ways to enhance the quality, utility, and clarity of the information to be collected; and ways to minimize the burden of the collection of information on respondents, in including the use of automated collection techniques of other forms of information technology.

Issued in Washington, DC, on October 13, 2000.
Judith D. Street,
Acting Manager, Standards and Information Division, APF-100.

[FR Doc. 00-26954 Filed 10-19-00; 8:45 am]

BILLING CODE 4910-13-M